DEPARTMENT OF LABOR

Employment and Training Administration

[SGA/DFA 03-102]

Work Incentive Grants

AGENCY: Employment and Training Administration (ETA), DOL.

ACTION: Notice of availability of funds; solicitation for grant applications (SGA).

This notice contains all of the necessary information and forms needed to apply for grant funding.

SUMMARY: The U.S. Department of Labor (DOL), Employment and Training Administration (ETA), announces the availability of approximately $17 million to award competitive grants designed to enhance the employability, employment and career advancement of people with disabilities through enhanced service delivery in the new One-Stop delivery system established under the Workforce Investment Act of 1998 (WIA). The Work Incentive Grant program will provide grant funds to consortia and/or partnerships of public and private non-profit entities working in coordination with the One-Stop delivery system to augment the existing programs and services and ensure programmatic access and streamlined, seamless service delivery for people with disabilities.

DATES: Applications will be accepted commencing on February 11, 2003. The closing date for receipt of applications under this announcement is March 28, 2003. Applications must be received by 4 p.m. (ET) at the address below. No exceptions to the mailing and hand-delivery conditions set forth in this notice will be granted. Applications that do not meet the conditions set forth in this notice will not be honored.

ADDRESSES: Applications shall be mailed to: U.S. Department of Labor, Employment and Training Administration, Division of Federal Assistance, Attention: B. Jai Johnson, SGA/DFA 03-102, 200 Constitution Avenue, NW., Room S-4203, Washington, DC 20210. Telefacsimile (FAX) applications will not be accepted. Applicants are advised that mail in the Washington area may be delayed due to mail decontamination procedures.

FOR FURTHER INFORMATION CONTACT: B. Jai Johnson, Grants Management Specialist, Division of Federal Assistance, Telephone (202) 693-3301 (this is not a toll-free number). You must specifically ask for B. Jai Johnson. Questions can also be faxed to B. Jai Johnson, Telephone (202) 693-2879, please include the SGA/DFA 03-102, a contact name, fax and phone numbers. This announcement will also be published on the Internet on the ETA's disAbility online Home Page at: http://wdsc.doleta.gov/disability/, and the ETA homepage at http://www.doleta.gov. Award notifications will also be published on the ETA homepage.

SUPPLEMENTARY INFORMATION:

Part I. Delivery of Applications

1. Late Applications. Any application received after the exact date and time specified for receipt at the office designated in this notice will not be considered, unless it is received before awards are made and it—(a) was sent by U.S. Postal Service registered or certified mail not later than the fifth calendar day before the date specified for receipt of applications (e.g., an application submitted in response to a solicitation requiring receipt of applications by the 20th of the month must have been post marked by the 15th of that month); or (b) was sent by the U.S. Postal Service Express Mail Next Day Service to addressee not later than 5 p.m. at the place of mailing two working days prior to the date specified for receipt of applications. The term “working days” excludes weekends and Federal holidays. “Post marked” means a printed, stamped or otherwise placed impression (exclusive of a postage meter machine impression) that is readily identifiable, without further action, as having been supplied or affixed on the date of mailing by an employee of the U.S. Postal Service.

2. Withdrawal of Applications. Applications may be withdrawn by written notice or telegram (including mail gram) received at any time before an award is made. Applications may be withdrawn in person by the applicant or by an authorized representative thereof, if the representative's identity is made known and the representative signs a receipt of the proposal.

3. Hand-Delivered Proposals. It is preferred that applications be mailed at least five days prior to the closing date. To be considered for funding, hand-delivered applications must be received by 4 p.m., ET, at the specified address. Failure to adhere to the above instructions will be basis for a determination of non-responsiveness. Overnight express mail from carriers other than the U.S. Postal Service will be considered hand-delivered applications and must be received by the above specified date and time.

Part II. Authority

Provisions relating to the One-Stop delivery system are at sections 121, 134(c), 189(c) of the Workforce Investment Act (29 U.S.C. 2841, 2864(c), 2939(c); Wagner-Peyser Act (29 U.S.C. 49f(d) and (e) and Department of Labor Appropriations Act for 2002 [Pub. L. 107-116]. Regulations governing the Workforce Investment Act are at 20 CFR parts 652, 660-671, (65 FR 49294 (August 11, 2000)).

Part III. Background

The Workforce Investment Act of 1998 (WIA) establishes comprehensive reform of existing Federal job training programs with amendments impacting service delivery under the Wagner-Peyser Act, Adult Education and Literacy Act, and the Rehabilitation Act. WIA also repeals and supersedes the Job Training Partnership Act. A number of other Federal programs are also identified as required partners in the One-Stop delivery system in order to provide comprehensive services for all Americans to access the information and resources available to assist them in the development and implementation of their career goals. The intention of the One-Stop system is to establish programs and employment service providers in co-located and integrated settings that are accessible for individuals and businesses alike in approximately 600 workforce investment areas established throughout the nation.

WIA establishes State and Local Workforce Investment Boards focused on strategic planning, policy development, and oversight of the workforce system with significant authority for the Governor and chief elected officials in local areas to build on existing reforms in order to implement innovative and comprehensive workforce investment systems. Recognizing that many One-Stop delivery systems may not currently have the capacity to provide comprehensive services to people with disabilities, the Work Incentive Grant is designed to provide seed monies to support the development of the One-Stop infrastructure with an objective of achieving model, seamless and comprehensive services for people with disabilities.

Many people with disabilities are looking to the new workforce investment system to address their employment and training needs in a progressive, enlightened environment with cutting-edge technologies. They also expect the One-Stop delivery system to provide comprehensive services to meet multiple barriers, which frequently limit their access to a productive, economically rewarding work life. These services may include, but are not limited to, the availability of basic skill development; vocational skill training or advanced educational opportunities; apprenticeship and entrepreneurial training; transportation assistance to reach training or employment sites; housing assistance or advice on retaining existing housing upon employment; and access to medical health coverage upon employment. Twenty-three Work Incentive Grants were awarded at the end of October 2000 for a thirty-month period. A second round of Work Incentive Grants were awarded in May 2002 for a twenty-four month period. If you would like more information on round one and two Work Incentive Grant awards, please go to http://wdsc.doleta.gov/disability/.

This Solicitation for Grant Applications (SGA) is for grant awards for the Work Incentive Grant program with funds made available July 1, 2002, under the DOL Fiscal Year 2002 appropriation. The Work Incentive Grant program is consistent with the objectives of the President's New Freedom Initiative. This year's Work Incentive Grant announcement continues an emphasis on addressing infrastructure inadequacies and programmatic access of the One-Stop system for people with disabilities, including grant funds available for procuring assistive technology. Statement of Work criteria continues an emphasis on support for staffing capacity but with additional language that is modeled on a joint ETA/SSA Disability Program Navigator initiative that will soon be piloted in several states. For more information on the Navigator initiative, please go to: http://wdsc.doleta.gov/disability/.

Part IV. Funding Availability and Period of Performance

The Department of Labor anticipates awarding approximately 20-40 grants ranging from $100,000 to $700,000. Awards to one or more local Workforce Investment Boards will generally be limited to no more than $300,000. Awards to state-wide grantees (including a single local Workforce Investment area State) will generally be limited to no more than $700,000. Awards to current Work Incentive Grantees that submit proposals under this SGA will be limited to $150,000 for one or more local Workforce Investment Boards and $500,000 to state-wide grant proposals. The period of performance will be approximately 24 months from the date of execution by the Department. The grant funds will be available for expenditure until June 30, 2005. The Department may elect to extend these grants based on the availability of new funds and satisfactory performance; but in no case may the FY 2002 Work Incentive Grant funds made available under this notice be expended after June 30, 2005.

Part V. Eligible Applicants

Eligible applicants are state departments of labor or applicable state entity administering the Wagner-Peyser and Title I Workforce Investment Act programs; state level Workforce Investment Boards; an individual local Workforce Investment Board; or several local Workforce Investment Boards applying jointly.

The Department of Labor encourages applicants to work in partnership with other disability-related public and private organizations. Partners may include: state/local public agencies such as Vocational Rehabilitation; State Councils for Independent Living; local Centers for Independent Living (CIL's); state mental health agencies, state mental retardation and Developmental Disability Councils; Temporary Assistance for Needy Families (TANF) agencies; and private, non-profit organizations such as disability advocacy and provider organizations, federally-funded disability grant entities, including faith-based entities, which provide services for people with disabilities.

Statewide applications must propose strategies for enhancing and improving services to people with disabilities involving all local workforce investment areas in the state. The Department will consider statewide proposals from a local Workforce Investment Board, or Boards submitting jointly, but letters of commitment from the state level Workforce Investment Board must be included in the application.

Applications that are not statewide projects but which involve one or more local workforce investment areas should also include letters of commitment from each Local Board covered under the grant, or one letter of commitment signed by all Local Boards in the local area (if all commitments cannot be obtained, explanation must be provided).

Current Work Incentive grantees may apply under this solicitation but must identify significant need and address outstanding deficiencies or propose a significant improvement to the local workforce investment system that has not been accomplished under the current grant. Provisions regarding eligible applicants identified in the first paragraph of this Part V are still required.

Indian and Native American Tribal entities, or consortia of Tribes, may apply for Work Incentive Grants. These grants would involve coordination of services and enhancements to a One-Stop system approach for people with disabilities in a specific Indian community or covering multiple Tribal entities that may cut across multiple States and/or workforce investment areas. In such cases, letters of commitment from Local Boards are not required. Grants to Indian and Native American tribal grantees are treated differently because of sovereignty and self-governance established under the Indian Self-Determination and Education Assistance Act allowing for the government-to-government relationship between the Federal and Tribal Governments.

Note: Except as specifically provided, DOL/ETA acceptance of a proposal and an award of federal funds to sponsor any program(s) does not provide a waiver of any grant requirement and/or procedures. For example, the OMB circulars require that an entity's procurement procedures must require that all procurement transactions must be conducted, as practical, to provide open and free competition. If a proposal identifies a specific entity to provide the services, the DOL/ETA's award does not provide the justification or basis to sole-source the procurement, i.e., avoid competition.

Part VI. Format Requirements for Grant Application

General Requirements—Applicants must submit one (1) copy with an original signature and 2 additional copies of their proposal. The Application Narrative must be double-spaced, and on single-sided, numbered pages with the exception of format requirements for the Executive Summary. The Executive Summary must be limited to no more than two single-spaced, single-sided pages. A font size of at least twelve (12) pitch is required throughout.

There are three required sections of the application. Requirements for each section are provided in this application package. Applications that fail to meet the requirements will not be considered.

Section I—Project Financial Plan

Section II—Executive Summary—Project Synopsis

Section III—Project Narrative (including Attachments, not to exceed 40 pages)

Section I. Project Financial Plan—Section I of the application must include the following three required parts:

• Completed “SF 424—Application for Federal Assistance” (See Appendix A of this SGA for required form)

• Completed “Budget Information Form” by line item for all costs required to implement the project design effectively. (See Appendix B of this SGA for required forms.)

• Budget narrative/justification, which provides sufficient information to support the reason-ableness of the costs, included in the budget in relation to the service strategy and planned outcomes.

The application must include one SF 424 with the original signatures of the legal entity applying for grant funding and 2 additional copies. Applicants shall indicate on the SF 424 the organization's IRS Status, if applicable. Under the Lobbying Disclosure Act of 1995, Section 18 (29 U.S.C. 1611), an organization described in section 501(c)(4) of the Internal Revenue Code of 1986 which engages in lobbying activities shall not be eligible for the receipt of federal funds constituting an award, grant, or loan. For item 10 of the SF 424, the Catalog of Federal Domestic Assistance (CFDA) number for the program is 17.207.

The Project Financial Plan will not count against the application page limits. The financial plan must describe all costs associated with implementing the project that are to be covered with grant funds. All costs should be necessary and reasonable according to the Federal guidelines set forth in the “Uniform Administrative Requirements for Grants and Cooperative Agreements to State and Local Governments,” (also known as the “Common Rule”) codified at 29 CFR part 97, and “Grants and Agreements with Institutes of Higher Education, Hospitals, and Other Non-Profit Organizations (also known as OMB Circular A-110), codified at 29 CFR part 95, and must comply with the applicable OMB cost principles circulars, as identified in 29 CFR 95.27 and 29 CFR 97.22(b).

Please Note: Work Incentive Grant project designs may incorporate procurement or implementation of software or hardware to assure assistive and accessible technologies in the One-Stop setting, which may equal up to 40% of the grant award.

Section II. Executive Summary—Project Synopsis [Format requirements for the Executive Summary are limited to no more than two single-spaced, single-sided pages] Each application shall include a project synopsis, which identifies the following:

The applicant;

The type of organization the applicant represents;

Identification of consortium partners and the type of organizations they represent;

The project service area;

Whether the service area is an entire local workforce investment area, more than one local area, or all local areas in a State;

The amount of funds requested;

The planned period of performance;

The comprehensive strategy proposed for providing seamless service delivery, for addressing the multi-faceted barriers to training and employment that affect people with disabilities, and for improving access for people with disabilities in the mainstream workforce system (i.e., WIA Title I and Wagner Peyser funded programs);

The ways in which the proposal is coordinated with other disability related grant initiatives from DOL, Department of Education (ED), Department of Health & Human Services (HHS), Social Security Administration (SSA), Department of Housing & Urban Development (HUD) or other Federal partners;

—How counseling and other support needs will be addressed in the One-Stop Center system;

—The actions already taken by the State or Local Workforce Investment Board to address the needs of people with disabilities in the One-Stop delivery system;

—The extent to which the One-Stop facilities and satellite site(s) incorporate physical access for people with disabilities;

—The extent to which Vocational Rehabilitation is integrated or coordinated with the One-Stop delivery system;

—Data on the extent to which people with disabilities have been served under the Wagner-Peyser Act, and WIA and previously, under the Job Training Partnership Act;

—The level of commitment the applicant and consortium members have to serving people with disabilities; and

—The extent and manner in which the needs of individuals with disabilities from diverse cultural and/or ethnic groups will be addressed.

Section III. Project Narrative [Project Narrative plus attachments are limited to no more than forty (40) double-spaced, single-sided, numbered pages. Letters of general support or recommendation for a proposal should NOT be submitted and will count against the page limits. Note: The Executive Summary is not included in this forty (40)-page limit.].

The Section III Project Narrative requirements are described below under Part IV—Government Requirements/Statement of Work section.

Part VII. Government Requirements/Statement of Work

The Project Narrative, or Section III of the grant application, should provide complete information on how the applicant will address the following Department of Labor priorities for the Program Year (PY) 2002 Work Incentive Grant program to achieve enhancements to the basic infrastructure and service delivery of the One-Stop system, in particular Wagner-Peyser and WIA-funded programs:

(1) Developing comprehensive One-Stop Centers which are welcoming and are valued providers of choice by customers with disabilities seeking workforce assistance by assuring the availability of staff trained on disability issues, personalized employment counseling, knowledgeable support related to addressing employment barriers and work incentives, and availability of accommodations and assistive technologies for diverse disability needs.

(2) Implement strategies, which significantly increase opportunities for skill training, career and job development for people with disabilities resulting in self-sustaining employment and career advancement through participation in the One-Stop system.

Proposals will be rated based upon addressing the areas listed in the four criteria in terms of a comprehensive strategic approach that addresses the Department's priorities noted above. The four criteria (Statement of Need, Comprehensive Service Strategy, Innovation and Model Services, and Demonstrated Capability) must be addressed and include applicant accomplishments or status with regard to each item. However, the Department does not expect the applicant to incorporate every item listed as part of their strategy and proposal design. The Department recognizes that the needs and requirements of each state and/or local workforce investment area may be different, and, therefore, some of the options identified may be more relevant than others in order to address the Department's priorities in a particular state and/or local area. For example, a state may have already provided extensive assistive technology throughout their One-Stop Career Centers and need to focus more on other accessibility or accommodation issues, outreach to the disability community and coordination with partner programs and, therefore, the proposal would identify this fact and not direct significant (or any) resources to procuring assistive technology.

With regard to the Department's priority to increase the availability of skill training, employment opportunities and career advancement for persons with disabilities, it has established the following Government Performance and Results Act (GPRA) goals for PY 2003 (July 1, 2003-June 30, 2004):

“Increase the capacity and quality of One-Stop system services for people with disabilities who are registered in the workforce investment area(s) receiving Work Incentive Grants.” The performance indicators for achieving this goal are:

• 5% more individuals with disabilities will be served than were served in the workforce area(s) in PY 2001 under the adult, dislocated worker and youth programs;

• Of those with disabilities served, 5% more individuals with disabilities will be placed in unsubsidized employment after program exit than were placed in PY 2001; and

Of those placed in the first quarter after program exit, 5% more individuals with disabilities will be employed in the third quarter after exit than were retained in PY 2001.

Note: When determining the focus and objectives of the applicant proposal, it will be helpful for applicants to also review past products and approaches taken by former grantees that are identified on the One-Stop Toolkit Web site at: http://www.onestoptoolkit.org/ In addition to obtaining strategic approaches that may be helpful, the Department would like to encourage leveraging of products that have been previously developed and reduce duplication where possible.

1. Statement of Need [25 points]

The purpose of the Statement of Need criteria is to establish the overall status of disability related issues in the applicant's workforce investment area, identify strengths and deficiencies to be addressed by the applicant proposal, identify the overall scope of proposal objectives and design, and present the applicant's need for Work Incentive Grant resources to achieve improvements to their workforce system for persons with disabilities. All items must be addressed although a number of them are for information purposes. This criteria will be rated based upon applicant needs identified and proposed approaches to address these needs in the context of the Department's priorities.

For proposals targeted to a specific Indian community or covering multiple Tribal entities which may cut across multiple States and/or local areas, describe the overall approach of the project, and identify the inadequacies and deficiencies of the service delivery to the applicable community, and how the project expects to address these.

A. Identify the number of workforce investment areas in the State and the geographic jurisdiction of each local workforce investment area(s) in the State.

B. Identify which local area(s) in the State will be covered by the project and whether the project is Statewide, involves multiple local areas or is for a single local area.

C. Identify whether a Work Incentive Grant award was received in the October 2000 or May 2002 award announcements covering the identified workforce investment areas in this application and the reasons for application under this Solicitation for Grant Application.

D. Identify partners/consortium members if any, their primary mission irrespective of participation in the grant proposal, and what political and geographic jurisdictions (e.g., cities, counties, subsections of cities/counties) they cover.

E. Describe how the project will address a primary objective of the Work Incentive Grant program to assure the integration of people with disabilities into the workforce investment system, including the availability of Wagner-Peyser and WIA Title I programs and services.

F. Identify the percentage of people with disabilities in the State and/or local area, including the percentage of people who are beneficiaries of Social Security Disability Insurance (SSDI) and/or Social Security Income Program (SSI).

G. Identify the most recent unemployment rate(s) in the workforce investment area(s) covering the project.

H. Describe any significant deficiencies in the State or local workforce investment system that represent barriers to employment for people with disabilities and what will be accomplished under this grant to address them.

I. Identify additional State and/or local funds and resources that will be used to support the overall objectives of the grant and which will assist in addressing the identified issues the grant project is addressing.

J. Recognizing that the One-Stop delivery system may not have extensive knowledge or skills in working with people with disabilities, describe the level of expertise of the One-Stop system in the local area(s) addressed in the grant and the projects plans for addressing inadequacies.

K. Describe the overall status and actions taken to-date by the One-Stop delivery system to address services to people with disabilities. This should include actions that assured that: (1) State and/or local facilities are physically and programmatically accessible; (2) training is provided to staff; (3) the number and percent of people with disabilities receiving services under WIA and Employment Service programs (or Job Training Partnership Act (JTPA) if applicable, during the previous three years compared with that of people without disabilities.

L. Describe how the applicant will increase services, skill training, employment outcomes, job retention and career advancement for persons with disabilities and how it will achieve the GPRA goals identified above.

2. Comprehensive Service Strategy [25 points]

The purpose of the Comprehensive Service Strategy criteria is to identify the approach proposed by the grantee to establish a welcoming and seamless service delivery system for persons with disabilities. In general, this requires extensive linkages and on-site knowledge of applicable resources that address multiple disability issues and barriers to employment that are commonly experienced by persons with disabilities. Disability issues are often very complex and the disability community is very diverse. These factors present significant challenges to the workforce system in providing first class services to individuals with disabilities. At the same time, the comprehensive nature of the One-Stop Career Center system establishes an infrastructure on the workforce that is uniquely positioned to provide the kind of seamless service delivery that the disability community has long been seeking. A centralized location where information on transportation, housing, Medicare, Medicaid, SSA benefits as well as skill training and employment services can be obtained. The Department will be rating this criteria on the approach proposed by the applicant to address these concerns.

The first item listed below establishes aspects of staff capacity that may be incorporated into the applicant proposal. Please note that applicants are not required to implement Disability Program Navigator positions. However, it has been the experience of many previous Work Incentive Grantees that this kind of staff capacity has been very successful in improving overall services delivery of their One-Stop Career Centers. As with other criteria, the Navigator description provided is neither prescriptive, nor necessarily all inclusive, but establishes examples of the roles and functions of such a position depending upon the needs of the One-Stop and the skills and talents of the individual Navigator.

A. Staff Capacity—Disability Program Navigator: Identify how you will ensure that trained staff are available to provide counseling or employment planning support who have adequate knowledge of diverse disabilities. This staff capacity may include knowledge and skills that are very similar to those incorporated in the Disability Program Navigator initiative (joint ETA/SSA initiative identified in Part II, Background). The Disability Program Navigator (“Navigator”) has expertise in and knowledge of a broad range of Federal, State, local, and private work incentive and other employment support programs. The Navigator provides service and information to persons with disabilities, including SSI and SSDI beneficiaries, on how to enter, re-enter, or retain unsubsidized, competitive employment, including SSA work incentives, other employment support programs and the Ticket to Work program. The Navigator also provides information on these resources to other staff and will work directly with people with disabilities to access, facilitate, and “navigate” the complex provisions under various programs, including SSA's employment support programs. Navigators also develop comparable expertise and provides training to One-Stop Center staff and other staff on available resources under One-Stop programs, SSA employment support programs and other programs, as well as to individuals with disabilities in order to deliver a comprehensive, seamless delivery of One-Stop services and access to programs that will meet the needs of persons with disabilities in an effective manner. Navigators network and partner with other agencies and organizations such as Benefits Planning, Assistance and Outreach organizations (BPAOs), Protection and Advocacy systems (P&As), Employment Networks (ENs), (including State Vocational Rehabilitation (VR) Agencies), etc. (e.g., SSA FOs, BPAOs, P&As, ENs) to obtain correct information or properly refer individuals with disabilities for additional information and services to assist them transition to careers or maintain current employment. The Navigator may also:

• Provide information on the following programs that support successful entry or re-entry into the workforce: TANF programs and services for people with disabilities, state and local mental health and developmental disability programs and providers, Medicaid and Medicare provisions; state and local housing provisions and supports; transportation subsidies and programs; and other state and/or local services designed to support employment and transition from public benefits to careers.

• Assess, on an ongoing basis, One-Stop Career Center facilities, services, programs and equipment to insure these are accessible to people with disabilities;

• Work with designated Equal Employment Opportunity officer(s), the Local Workforce Investment Board and the One-Stop Operator to ensure that One-Stop Career Center facilities, services, programs and equipment are accessible to people with disabilities, including ensuring the availability of publications and materials in alternate formats; and

• Develop expertise on state of the art rehabilitation technology and local or regional resources that facilitate their application in the One-Stop Center(s) and employer workplace to accommodate diverse functional disabilities.

• Train the One-Stop Career Center Operator and Staff on: disability etiquette; facility, communication and program accessibility requirements; Americans with Disability Act (ADA), Section 504 (Part 32) of the Rehabilitation Act; WIA section 188 (Part 37) definitions and requirements; assessment tools and their applicability.

• Assure provision of a welcoming environment for people with disabilities through development of competence and familiarity of issues affecting persons with disabilities throughout the local workforce investment system.

B. Other Comprehensive One-Stop Strategies:

i. Describe changes to be achieved under the grant to create seamless service delivery for One-Stop customers with disabilities.

ii. Describe the process that will be used to maintain and expand the service structure for individuals with disabilities accessing the workforce investment system, including capacity building of the Employment Service delivery component of the One-Stop system.

iii. Identify plans and strategies to develop the capacity of the comprehensive One-Stop Career Center to function as an Employment Network under the Ticket to Work and Work Incentive Improvement Act (TWWIIA). Project plans in this regard should involve building the capacity of the WIA Title I programs and One-Stop system so that more in-depth services and information will be readily available to individuals with disabilities at the comprehensive One-Stop Career Center. The description of increased capacity should be in addition to the State Vocational Rehabilitation Agency since they are an automatic Employment Network provider under Ticket to Work.

iv. Describe linkages with the State and local Independent Living Center (CIL) systems; Mental Health Departments, Mental Retardation/Developmental Disability Agencies, State Councils on Developmental Disabilities, State Vocational Rehabilitation, and Councils on Employment and other local provider or advocate organizations serving individuals with developmental and/or psychiatric disabilities, including how these agencies fit in a comprehensive service delivery strategy.

v. Describe how people with disabilities who are not eligible for Vocational Rehabilitation services or do not fall under the State's Order of Selection will be served through Wagner-Peyser services or WIA services through the Adult, Dislocated Worker, Youth or National Programs, including programs and services under the Older Americans Act.

vi. Identify the provisions of Memoranda of Understanding or other agreements between the partners, State Vocational Rehabilitation (VR) Agency, the State Rehabilitation Council, and the State or Local Boards in terms of the provision of services to people with disabilities; the plans for cost sharing; the arrangements for referral of people with disabilities between W IA Title I programs and VR as appropriate; the extent of integration and co-location of VR in One-Stop Centers, including sharing of Management Information Systems (MIS) or participation in case management data base technologies; the extent to which there is joint funding of participant services or leveraging of funds to expand access to services; and use of Individual Training Accounts (ITA's) for people with disabilities.

Describe coordination and linkage with regional Disability Business and Technical Assistance Centers (DBTAC's) and State Governors Committees on Employment of People with Disabilities. For example, have DBTAC's provided training to the One-Stop delivery system on the Americans with Disabilities Act (ADA), section 504 of the Rehabilitation Act, or other disability-related training? If not, are plans to do so incorporated into the applicant project?

Identify public and private non-profit provider entities participating under WIA and Employment Service programs, and which barriers to employment their programs and services that are contributing to the overall applicant proposal may address. Specifically, describe State or local area provisions regarding Medicaid and/or Medicare coverage; current transportation infrastructure; how individuals with all types of disabilities will access training, employment, housing, food stamps and other supportive services.

vii. Describe coordination and linkages with Learning Disabilities and Training Dissemination hub centers established under grants from the U.S. Department of Education's Office of Vocational and Adult Education and how these may be used to provide services to people with learning and other disabilities.

viii. Describe how the project will be coordinated with grant programs, which are funded under the SSA Benefits Planning, Assistance and Outreach Cooperative Agreement and HHS Medicaid Infrastructure Grant programs, if applicable.

ix. Describe how the project is expected to have a positive effect in the operation of the One-Stop delivery system.

3. Innovation and Model Services [25 points]

The purpose of the Innovation and Model Services criteria is to identify strategies the applicant is planning to increase services and employment outcomes for persons with disabilities that access One-Stop Career Centers. This should be within the context of the WIA Title I and Wagner-Peyser programs, utilizing the training or other resources that are available since the Work Incentive Grant program is not typically for direct services to individuals (with the exception of staff capacity such as a Program Navigator described above).

A. Describe your strategy for substantially increasing the number and percent of people with disabilities served, trained and entered into unsubsidized employment through the One-Stop Center system, particularly in WIA Title I programs. This should be related to, or refer back to, the first year of WIA identified under the Statement of Need and service delivery history under JTPA where applicable.

B. Describe the status of accessible technologies within the Comprehensive One-Stop and plans to procure and implement accessible technologies, including video interpreting services for clients who are deaf or electronic door openers for wheelchair users, and how they address current system deficiencies.

C. Identify the scope of technology implementations, if applicable, and the extent to which implementation is comprehensive and across the workforce area(s) and/or statewide.

D. Describe approaches for employment involvement and how these will respond to meeting employer skill shortage needs.

E. Describe how opportunities for competitive employment for individuals with disabilities will be provided or developed within the local workforce investment area and how this is unique or different than what is normally performed by the applicant(s).

F. Describe specific approaches for developing relationships with and support of area employers that establish employment opportunities for individuals with disabilities accessing the One-Stop delivery system, including any commitments by employers to hire these individuals.

G. Describe linkages with Business Leadership Networks (BLNs) (that have been established in approximately 30 states) if applicable.

H. Describe strategies to foster entrepreneurial and self-employment options using ITA's, Plans for Achieving Self-Support (PASS) and other SSA work incentives, and Medicaid coverage for individuals with disabilities who start or return to work.

I. Identify available Federal and State tax incentives available to employers when hiring an individual with a disability; how this information will be marketed and disseminated to employers, the individual and workforce staff; and how employers may use such tax credits to address structural and technological accommodation needs.

L. Describe opportunities for increasing integrated, competitive employment through use of strategies such as individualized job development for individuals with the most significant disabilities currently working in segregated facilities or waiting for employment services.

M. Identify whether assessment tools are used to identify individuals with learning disabilities in the One-Stop delivery system, including plans and processes to identify applicable assessment tools, train staff and incorporate such assessments as part of the service delivery structure.

N. Describe how public supports needed by people with disabilities may be affected by their employment or training and State or local conditions, and actions to sustain benefits and services following successful job placement. For example, does the State or local area have provisions to continue supported or Section 8A housing (The Housing Act of 1992, Title IV), where applicable, for individuals who enter unsubsidized employment?

O. Has the State adopted Medicaid “buy-in” options, or are there Medicaid waivers that extend health care coverage for individuals who enter employment?

P. Describe plans for outreach and marketing to the disability community and organizations that represent or work with people with disabilities; and plans for training disability-related organizations on the resources and programs available to them in the One-Stop system.

Q. Identify individualized strategies that establish client control of training funds, VR funds, ITA's, or other funding sources to which these individuals may have access, and co-mingle funds in a seamless, customer friendly manner, including plans for obtaining waivers to the extent program requirements necessitate this.

R. Identify plans or strategies to deploy Ticket to Work voucher provisions for beneficiaries of SSDI and recipients of SSI.

4. Demonstrated Capability [25 points]

The purpose of the Demonstrated Capability criteria is to determine whether the applicant has developed adequate plans, including staff, disability partners and other resources, to effectively carry out the objectives and scope of the proposed project. The Department will rate this criteria based upon the ability of the applicant to do this.

Identify how whether the State or Local Boards will include the disability community in plans.

Identify the critical activities, time frames and responsibilities for effectively implementing the project, including the management and evaluation process for assuring successful implementation of grant objectives.

Include a project organizational chart, which identifies the staff with key management responsibilities, including a matrix of organizational responsibilities of key entities and participating consortium organizations, where applicable.

Describe the specific experience of the applicant(s) in serving people with disabilities, in providing workforce services, in addressing specific barriers to employment, in achieving expected outcomes in the delivery of such services/programs, and in implementing and administering specific project plans of the grant project. For example, such information might include the local Department of Transportation as a key partner agency addressing transportation barriers and how this entity has participated in similar efforts in the past and the success of these past efforts, and potential success of coordination on the applicant(s) grant project.

Part VIII. Monitoring and Reporting

Monitoring: The Department shall be responsible for ensuring the effective implementation of each competitive grant project in accordance with the provisions of this announcement and the terms of the grant award document. Applicants should assume that Department staff, or their designees will conduct on-site project reviews, periodically. Reviews will focus on timely project implementation, performance in meeting the grant's programmatic goals and objectives, expenditure of grant funds on allowable activities, integration and coordination with other resources and service providers in the local area, and project management and administration in achieving project objectives. Work Incentive Grants may be subject to other additional reviews at the discretion of the Department.

Reporting: Grantees will be required to submit quarterly financial and narrative progress reports under the Work Incentive Grant program covering the workforce area(s) included in the grant project design. DOL will analyze data of workforce investment area(s) reports submitted annually under the Workforce Investment Standardized Record Data (WIASARD) for workforce areas covered under the grant [Note: Information on the WIASRD can be found under performance accountability at http://doleta.gov/usworkforce/wia.asp].

Financial reporting will be required quarterly using the on-line electronic reporting system for the Standard Form 269—Financial Status Report (FSR).

A narrative progress report will be required quarterly.

The Department of Labor's evaluation of the Work Incentive Grant program includes a process evaluation that includes extensive information pertaining to achievements of under the grant (e.g., training provided to staff, coordination with disability entities, etc.), summary information pertaining to WIA implementation and the numbers of people with disabilities registered, receiving services, and employed through the One-Stop system, among other areas.

The Department has established performance goals that are consistent with the Department's (GPRA) goals as noted in the introduction of Part VII—Government Requirements/Statement of Work. Work Incentive Grantees will be expected to achieve these performance goals.

Part IX. Review Process and Evaluation Criteria

All applications will be reviewed for compliance with the requirements of this notice. A careful evaluation of applications will be made by a technical review panel, which will evaluate the applications against the rating criteria listed in this SGA. The panel results are advisory in nature and not binding on the Grant Officer. The Department may elect to award grants either with or without discussion with the offeror. In situations without discussions, an award will be based on the offeror's signature on the SF 424, which constitutes a binding offer. The Grant Officer may consider any information that is available and will make final award decisions based on what is most advantageous to the Government, considering factors such as:

Panel findings;

Geographic distribution of the competitive applications; and the availability of funds.

Signed at Washington, DC, this 6th day of February, 2003.
James W. Stockton,
Grant Officer.

BILLING CODE 4510-30-P

[FR Doc. 03-3338 Filed 2-10-03; 8:45 am]

BILLING CODE 4510-30-C